DEPARTMENT OF HEALTH AND HUMAN SERVICES

Office of the Assistant Secretary for Planning and Evaluation

[Account Number: 4151-04]

Technical Review Panel on the Medicare Trustees Reports; Notice of June 28-29 Meeting

AGENCY: Office of the Assistant Secretary for Planning and Evaluation, HHS.

ACTION: Notice of June 28-29 meeting.

SUMMARY: In accordance with section 10(a) of the Federal Advisory Committee Act, this notice announces the first meeting of the Technical Review Panel on the Medicare Trustees Reports (the Panel). This meeting is open to the public.

Pursuant to Public Law 92-463 (the Federal Advisory Committee Act), the Panel was established on August 12, 1999, by the Secretary of HHS to review the methods and assumptions underlying the annual reports of the Board of Trustees of the Hospital Insurance and Supplementary Medical Insurance Trust Funds.

DATES: The first meeting will be held on June 28, 2000 (11:00 a.m. to 5:00 p.m.) and June 29, 2000 (9:00 a.m. to 1:00 p.m.).

ADDRESSES: The meeting will be held at the Health Care Financing Administration (HCFA) Headquarters, Training Center Room C-101, 7500 Security Boulevard, Baltimore, Maryland.

FOR FURTHER INFORMATION CONTACT: Ariel Winter, Executive Director, Technical Review Panel on the Medicare Trustees Reports, Department of Health and Human Services, Room 442E, 200 Independence Avenue, SW., Washington, DC, 20201, (202) 690-6860, medpanel@osaspe.dhhs.gov. Additional information is also available on the Panel's web site: http://aspe.hhs.gov/health/medpanel.htm.

SUPPLEMENTARY INFORMATION: The Board of Trustees of the Medicare Trust Funds (the Hospital Insurance (HI) and Supplementary Medical Insurance (SMI) Trust Funds) report annually on the funds' financial condition. The reports describe the trust funds' current and projected financial condition, within the next 10 years (the short term) and over the subsequent 65 years (the long term). The Medicare Board of Trustees has directed the Secretary of Health and Human Services (who is one of the Trustees) to establish a panel of technical experts to review the assumptions and methods underlying the HI and SMI annual reports.

The panel's review will include the following four topics:

1. Medicare assumptions (e.g., utilization rates, medical price increases).

2. Projection methodology (how assumptions are used to make cost projections).

3. Long-range growth assumptions for HI and SMI.

4. Use of stochastic forecasting techniques.

The Panel will issue its findings in reports to the Secretary and the other Trustees.

The Panel will consist of seven members who are experts in the fields of economics and actuarial science. The following individuals will be sworn in as members at the first meeting: Len Nichols, Ph.D.; David Cutler, Ph.D.; Michael Chernew, Ph.D.; Dale Yamamoto, F.S.A., M.A.A.A., F.C.C.A., E.A., B.S.; James Robinson, F.S.A., M.A.A.A., Ph.D.; Alice Rosenblatt, F.S.A., M.A.A.A., M.A.; and Sam Gutterman, F.S.A., F.C.A.S., M.A.A.A., M.A. (the chair-designate). The members' terms will end August 12, 2001.

The first meeting of the Panel is scheduled for June 28, 2000 (11:00 a.m. to 5:00 p.m.), and June 29, 2000 (9:00 a.m. to 1:00 p.m.). The meeting will be held at the Health Care Financing Administration (HCFA) Headquarters, Training Center, Room C-101, 7500 Security Boulevard, Baltimore, Maryland. The meeting is open to the public, but attendance is limited to the space available. There will also be an executive session on June 28 from 9:00 a.m. to 11:00 a.m. for the swearing-in of Panel members. This session will be closed to the public.

At this meeting, the members will discuss the Panel's scope of work. HCFA's Office of the Actuary will make presentations to the Panel on how the estimates in the Medicare Trustees' Reports are developed. Specific presentation topics may include: the HI and SMI benefits and income models, measures of actuarial soundness, and health care utilization assumptions.

Individuals or organizations that wish to make 5-minute oral presentations on the agenda issues mentioned in this notice should contact the Executive Director by 12 noon on June 12, 2000. The number of oral presentations may be limited to the time available. A written copy of the presenters' oral remarks should be submitted to the Executive Director no later than 12 noon, June 19, 2000, for distribution to the Panel members.

Any interested member of the public may submit written comments to the Executive Director and Panel members for review. Comments should be received by the Executive Director by 12 noon, June 19, 2000, for distribution to the Panel members.

Individuals requiring sign language interpretation for the hearing impaired and/or other special accommodation, should contact Ariel Winter at (202) 690-6860 by June 16, 2000.

Dated: May 30, 2000.
Margaret A. Hamburg,
Assistant Secretary for Planning and Evaluation.

[FR Doc. 00-14238 Filed 6-6-00; 8:45 am]

BILLING CODE 4110-60-P